DEPARTMENT OF DEFENSE

Office of the Secretary

[Docket ID: DoD-2014-OS-0019]

Privacy Act of 1974; Notice of a Computer Matching Program

AGENCY: Defense Manpower Data Center, DoD.

ACTION: Notice of a computer matching program.

SUMMARY: Subsection (e)(12) of the Privacy Act of 1974, as amended, requires agencies to publish advance notice of any proposed or revised computer matching program by the matching agency for public comment. The Department of Defense (DoD), as the matching agency under the Privacy Act is hereby giving notice to the record subjects of a computer matching program between the Department of Defense (DoD) and the Office of Personnel Management (OPM) that their records are being matched by computer. The purpose of this agreement is to establish the conditions, safeguards, and procedures under which the OPM, as the source agency, will disclose Federal Employees Health Benefits (FEHB) program eligibility and Federal employment information to DoD, as the recipient agency. This disclosure by OPM will provide the DoD with the FEHB program eligibility and Federal employment information necessary to either verify the eligibility to enroll or verify the continuing eligibility of enrolled Service members for premium based TRICARE health plans such as the TRICARE Reserve Select (TRS) and the TRICARE Retired Reserve (TRR).

DATES: This proposed action will become effective March 12, 2014 and matching may commence unless changes to the matching program are required due to public comments or by Congressional or by Office of Management and Budget objections. Public comments must be received before March 12, 2014.

ADDRESSES: You may submit comments, identified by docket number and title, by any of the following methods:

• Federal eRulemaking Portal: http://www.regulations.gov. Follow the instructions for submitting comments.

• Mail: Federal Docket Management System Office, 4800 Mark Center Drive, East Tower, 2nd Floor, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: Mr. Samuel P. Jenkins at telephone (703) 571-0070.

SUPPLEMENTARY INFORMATION: Pursuant to subsection (o) of the Privacy Act of 1974, as amended (5 U.S.C. 552a), the Defense Manpower Data Center (DMDC) and OPM have concluded an agreement to conduct a computer matching program between the agencies. The purpose of this match is for determining the eligibility for the FEHB program and the eligibility for enrollment in premium based TRICARE health plans for Reserve Component (RC) Service members. The parties to this agreement have determined that a computer matching program is the most efficient, expeditious, and effective means of obtaining the information needed by the OPM to identify individual's ineligible to continue the TRICARE Reserve Select and TRICARE Retired Reserve (TRR) Programs. If this identification is not accomplished by computer matching, but is done manually, the cost would be prohibitive and it is possible that not all individuals would be identified. A copy of the computer matching agreement between OPM and DMDC is available upon request to the public. Requests should be submitted to Acting Director, Defense Privacy and Civil Liberties Office, 241 18th Street South, Suite 101, Arlington, VA 22202 or to the Office of Personnel Management, 1900 E Street NW., Room 5415, Washington, DC 20415. Set forth below is the notice of the establishment of a computer matching program required by paragraph 6.c. of the Office of Management and Budget Guidelines on computer matching published in the Federal Register at 54 FR 25818 on June 19, 1989.

The matching agreement, as required by 5 U.S.C. 552a(r) of the Privacy Act of 1974, as amended, and an advance copy of this notice was submitted on February 3, 2014, to the House Committee on Government Reform, the Senate Committee on Governmental Affairs, and the Administrator of the Office of Information and Regulatory Affairs, Office of Management and Budget pursuant to paragraph 4d of Appendix I to OMB Circular No. A-130, “Federal Agency Responsibilities for Maintaining Records About Individuals,” February 8, 1996 (February 20, 1996; 61 FR 6427).

Dated: February 5, 2014.

Aaron Siegel, Alternate OSD Federal Register Liaison Officer, Department of Defense.

Notice of a Computer Matching Program Between the Department of Defense (DOD), Defense Manpower Data Center (DMDC)

A. Participating Agencies: Participants in this computer matching program are the Office of Personnel Management (OPM) and the Defense Manpower Data Center (DMDC) of the Department of Defense (DoD). The OPM is the source agency, i.e., the activity disclosing the records for the purpose of the match. The DMDC is the specific recipient activity or matching agency, i.e., the agency that actually performs the computer matching.

B. Purpose of the Match: Establishes the conditions, safeguards, and procedures under which the OPM, as the source agency, will disclose FEHB program eligibility and Federal employment information to DoD, as the recipient agency. This disclosure by OPM will provide the DoD with the FEHB program eligibility and Federal employment information necessary to either verify the eligibility to enroll or verify the continuing eligibility of enrolled Service members for premium based TRICARE health plans such as the TRICARE Reserve Select (TRS) and the TRICARE Retired Reserve (TRR).

C. Legal Authority: This CMA is executed to comply with section 552a of Title 5, United States Code (U.S.C.), as amended (the Privacy Act of 1974), Public Law (Pub. L.) 100-503, the Computer Matching and Privacy Protection Act (CMPPA) of 1988, the Office of Management and Budget (OMB) Circular A-130, titled “Management of Federal Information Resources” at 61 Federal Register (FR) 6435, February 20, 1996, and OMB guidelines pertaining to computer matching at 54 FR 25818, June 19, 1989. Section 706 of Public Law 109-364, the John Warner National Defense Authorization Act of 2007, amended section 1076d of Title 10, U.S.C. to established the enhanced TRS health plan as of October 1, 2007. Section 705 of Public Law 111-84, National Defense Authorization Act for Fiscal Year 2010, amended section 1076e of Title 10, U.S.C. to establish the TRR health plan as of October 29, 2009. RC Service members who have continuing eligibility for the FEHB program pursuant to chapter 89 of Title 5, U.S.C. are not eligible to enroll, or continue an enrollment, in the TRS or the TRR program. This agreement implements the additional validation processes needed by DoD to insure RC Service members eligible for the FEHB program may not enroll, or may not continue a current enrollment, in the TRS or the TRR health plan.

D. Records To Be Matched: Systems of Records (SOR). DoD will use the SOR identified as DMDC 02 DoD, entitled “Defense Enrollment Eligibility Reporting System (DEERS), November 21, 2012, 77 FR 69807.” The SSNs of RC Service members released to OPM pursuant to the routine use “20a” set forth in the system notice DMDC 02 DoD. Systems of Records (SOR). OPM provides identification of the FEHB program status of RC Service members to validate the eligibility for the statutory requirement of the TRS and the TRR program. Therefore, eligibility information is maintained in the SOR identified as OPM/GOVT-1 entitled “General Personnel Records, December 11, 2012, 77 FR 79694.

E. Description of Computer Matching Program: Under the terms of this matching agreement, the Defense Manpower Data Center (DMDC) will provide to OPM a file of records consisting of Social Security Number (SSN), date of birth (DOB), and the name of Service members of the Ready Reserve, Standby Reserve, and Retired Reserve of the Armed Forces of the United States. DMDC will update the Defense Enrollment Eligibility Reporting System (DEERS) record of those RC Service members with FEHB program eligibility information from the OPM response file. The Office of the Assistant Secretary of Defense for Reserve Affairs (OASD(RA)) will be responsible for providing the verified information to the RCs to aid in processing of TRS and TRR eligibility determinations. OPM agrees to conduct two computer matches within a calendar year of the records of RC Service members provided by DMDC matched with the information found in OPM's Enterprise Human Resources Integration (EHRI) system for permanent employees in a current pay status. OPM will validate the identification of the RC records that match with the name, SSN and DOB provided by DMDC. OPM will provide the Civilian Agency Indicator, the full FEHB Program Plan Code, a Multiple Record Indicator, and a DOB Match Indicator. OPM will forward a response file to DMDC within 30 business days following the receipt of the initial finder file and for all subsequent files submitted.

F. Inclusive Dates of the Matching Program: This computer matching program is subject to public comment and review by Congress and the Office of Management and Budget. If the mandatory 30 day period for comment has expired and no comments are received and if no objections are raised by either Congress or the Office of Management and Budget within 40 days of being notified of the proposed match, the computer matching program becomes effective and the respective agencies may begin the exchange at a mutually agreeable time and thereafter on a quarterly basis. By agreement between OPM and DMDC, the matching program will be in effect for 18 months with an option to renew for 12 additional months unless one of the parties to the agreement advises the other by written request to terminate or modify the agreement.

G. For Questions, Contact: Acting Director, Defense Privacy and Civil Liberties Office, 241 18th Street South, Suite 101, Arlington, VA 22202. Telephone (703) 571-0070.

[FR Doc. 2014-02842 Filed 2-7-14; 8:45 am]

BILLING CODE 5001-06-P